FEDERAL COMMUNICATIONS COMMISSION

[FR ID 50787]

Open Commission Meeting Thursday, September 30, 2021

The Federal Communications Commission will hold an Open Meeting on the subjects listed below on Thursday, September 30, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | PUBLIC SAFETY & HOMELAND SECURITY | Title: Resilient Networks (PS Docket No. 21-346); Amendments to Part 4 of the Commission's Rules Concerning Disruptions to Communications (PS Docket No. 15-80); New Part 4 of the Commission's Rules Concerning Disruptions to Communications (ET Docket No. 04-35).
|  | Summary: The Commission will consider a Notice of Proposed Rulemaking to examine the Wireless Network Resiliency Cooperative Framework, the FCC's network outage reporting rules, and strategies to address the effect of power outages on communications networks.
2 | PUBLIC SAFETY & HOMELAND SECURITY AND WIRELESS TELECOMMUNICATIONS | Title: Reassessing 4.9 GHz Band for Public Safety (WP Docket No. 07-100). Summary: The Commission will consider an Order on Reconsideration that would vacate the 2020 Sixth Report and Order, which adopted a state-by-state leasing framework for the 4.9 GHz (4940-4900 MHz) band. The Commission also will consider an Eighth Further Notice of Proposed Rulemaking that would seek comment on a nationwide framework for the 4.9 GHz band, ways to foster greater public safety use, and ways to facilitate compatible non-public safety access to the band.
3 | OFFICE OF ENGINEERING & TECHNOLOGY | Title: Authorizing 6 GHz Band Automated Frequency Coordination Systems (ET Docket No. 21-352).
|  | Summary: The Commission will consider a Public Notice beginning the process for authorizing Automated Frequency Coordination Systems to govern the operation of standard-power devices in the 6 GHz band (5.925-7.125 GHz).
4 | OFFICE OF ENGINEERING & TECHNOLOGY | Title: Spectrum Requirements for the Internet of Things (ET Docket No. 21-353).
|  | Summary: The Commission will consider a Notice of Inquiry seeking comment on current and future spectrum needs to enable better connectivity relating to the Internet of Things (IoT).
5 | CONSUMER & GOVERNMENTAL AFFAIRS | Title: Implementation of the Middle Class Tax Relief and Job Creation Act of 2012 (CG Docket No. 12-129); Enhancing Security of Public Safety Answering Point Communications (PS Docket No. 21-343).
|  | Summary: The Commission will consider a Further Notice of Proposed Rulemaking to update the Commission's rules regarding the implementation of the Public Safety Answering Point (PSAP) Do-Not-Call registry in order to protect PSAPs from unwanted robocalls.
6 | WIRELINE COMPETITION AND CONSUMER & GOVERNMENTAL AFFAIRS | Title: Advanced Methods to Target and Eliminate Unlawful Robocalls (CG Docket No. 17-59); Call Authentication Trust Anchor (WC Docket No. 17-97). Summary: The Commission will consider a Further Notice of Proposed Rulemaking that proposes to impose obligations on gateway providers to help stop illegal robocalls originating abroad from reaching U.S. consumers and businesses.
7 | WIRELINE COMPETITION | Title: Supporting Broadband for Tribal Libraries Through E-Rate (CC Docket No. 02-6).
|  | Summary: The Commission will consider a Notice of Proposed Rulemaking that proposes to update sections 54.500 and 54.501(b)(1) of the Commission's rules to clarify Tribal libraries are eligible for support through the E-Rate Program.
8 | INTERNATIONAL | Title: Strengthening Security Review of Companies with Foreign Ownership (IB Docket No. 16-155).
|  | Summary: The Commission will consider a Second Report and Order that would adopt Standard Questions—a baseline set of national security and law enforcement questions—that certain applicants with reportable foreign ownership must provide to the Executive Branch prior to or at the same time they file their applications with the Commission, thus expediting the Executive Branch's review for national security and law enforcement concerns.
9 | WIRELINE COMPETITION | Title: Protecting Consumers from SIM Swap and Port-Out Fraud (WC Docket No. 21-341).
|  | Summary: The Commission will consider a Notice of Proposed Rulemaking to address SIM-swapping and port-out fraud.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Dated: September 23, 2021.
Marlene Dortch,
Secretary.

[FR Doc. 2021-21258 Filed 9-29-21; 8:45 am]

BILLING CODE 6712-01-P